DEPARTMENT OF HOMELAND SECURITY

U.S. Customs and Border Protection

19 CFR Part 102

Rules of Origin

CFR Correction

In Title 19 of the Code of Federal Regulations, Parts 0 to 140, revised as of April 1, 2011, on page 578, in § 102.20, in the table, the second entry for 8708.99 is removed.

[FR Doc. 2011-19372 Filed 7-28-11; 8:45 am]

BILLING CODE 1505-01-D